NUCLEAR REGULATORY COMMISSION

[Docket Nos. 50-445 and 50-446; NRC-2009-0437]

Luminant Generation Company LLC; Notice of Withdrawal of Application for Amendment to Facility Operating License

The U.S. Nuclear Regulatory Commission (the Commission) has granted the request of Luminant Generation Company LLC (the licensee) to withdraw its March 4, 2009, application, as supplemented by letter dated September 14, 2009, for a proposed amendment to Facility Operating License Nos. NPF-87 and NPF-89 for the Comanche Peak Steam Electric Station (CPSES), Units 1 and 2, located in Somervell County, Texas.

The proposed amendment would have added a license condition for submittal of inservice inspection (ISI) information and analyses requested in Section (e) of the final rule in Title 10 of the Code of Federal Regulations (10 CFR), Part 50.61a, or the proposed rule (October 3, 2007; 72 FR 56275), prior to issuance of the 10 CFR 50.61a, within 1 year of completing each American Society of Mechanical Engineers Boiler and Pressure and Vessel Code (ASME Code), Section XI, Category B-A and B-D reactor vessel (RV) weld inspections. This amendment request was associated with the request for relief to extend the ISI interval for ASME Code, Section XI, Category B-A and B-D RV welds from 10 years to 20 years (TAC Nos. ME0777 and ME0778) and the license condition was required in accordance with the conditions and limitations of U.S. Nuclear Regulatory Commission (NRC) approved WCAP-16168-NP, Revision 2, “Risk-Informed Extension of the Reactor Vessel In-service Inspection Interval.”

The request was to defer the ASME Code-required volumetric examination of the CPSES, Unit 1, for the second ISI from refueling outage 1RF14 in 2010 until refueling outage 1RF20 and to perform the third ISI on a 20-year inspection interval, instead of the currently required 10-year interval. By letter dated September 14, 2009, the licensee revised its application for relief request for a one-time extension only and requested to withdraw the proposed amendment and associated license condition.

The Commission had previously issued a Notice of Consideration of Issuance of Amendment published in the Federal Register on May 5, 2009 (74 FR 20750). However, by letter dated September 14, 2009, the licensee withdrew the proposed change.

For further details with respect to this action, see the application for amendment dated March 4, 2009, and the licensee's letter dated September 14, 2009, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 25th day of September 2009.
For the Nuclear Regulatory Commission.
Balwant K. Singal,
Senior Project Manager, Plant Licensing Branch IV, Division of Operating Reactor Licensing, Office of Nuclear Reactor Regulation.

[FR Doc. E9-23779 Filed 10-1-09; 8:45 am]

BILLING CODE 7590-01-P